DEPARTMENT OF AGRICULTURE

Forest Service

Black Hills National Forest, Mystic Ranger District, South Dakota, Upper Spring Creek Project Area

AGENCY: Forest Service, USDA.

ACTION: Notice of intent to prepare an Environmental Impact Statement (EIS).

SUMMARY: The Forest Service will prepare an environmental impact statement on a proposal to use multiple vegetation treatments focused on creating a landscape condition more adapted to fire and that reduces potential for high severity wildfire near at-risk communities and in the wildland-urban interface, and reduce the threat to ecosystem components including forest resources from an existing insect epidemic. The proposal is being planned for the 44,100 acre Upper Spring Creek Project Area that includes about 39,700 acres of National Forest System land and about 4,300 acres of interspersed private land. The project area generally extends westward from west of Hill City, South Dakota encompassing the Upper Spring Creek watershed. This project will be conducted as an authorized project under section 102 of the Healthy Forests Restoration Act of 2003 (HFRA). Actions proposed for the Upper Spring Creek Project Area include the following:

• Remove conifers from hardwood stands such as aspen and birch and by restoring meadows (est. 3,800 acres).

• Reduce the amount of fuel that currently exists and that created by vegetation treatment activities. Treatment could include lopping, crushing, piling and burning; creating fuel breaks along roads and adjacent to private property, particularly those properties with houses and subdivisions. Prescribed broadcast burning of up to 14,200 acres is also planned to not only reduce fuel levels, but also benefit big game and other wildlife resources.

• Thin and harvest approximately 23,500 acres of pine stands using a variety of treatments to reduce the overall density of pine trees and create a mosaic of structural stages across the landscape. Both commercial harvest and non-commercial thinning will be sued to reduce the stand density, associated fuel hazard conditions and susceptibility to Mountain Pine Beetle (MPB) infestations.

DATES: Comments concerning the scope of the analysis would be most useful if received by 30-days following the date of this notice. The draft environmental impact statement is expected to be available for public review by February 2008 and the final environmental impact statement is expected to be completed by May 2008.

ADDRESSES: Send written comments to Robert J. Thompson, District Ranger, Black Hills National Forest, Mystic Ranger District, Upper Spring Creek Project Area, 8221 South Highway 16, Rapid City, South Dakota 57702. Telephone Number: (605) 343-1567. E-mail: comments-rocky-mountain-black-hills-mystic@fs.fed.us with “Upper Spring Creek” as the subject. Electronic comments must be readable in Word, Rich Text or PDF formats.

FOR FURTHER INFORMATION CONTACT: If you have any questions or need additional information please contact Katie Van Alstyne, Team Leader or Robert J. Thompson, District Ranger, at the Mystic Ranger District office in Rapid City at (605) 343-1567.

SUPPLEMENTARY INFORMATION: The actions proposed are in direct response to management direction provided by the Black Hills National Forest Land and Resource Management Plan (Forest Plan). The site specific actions are designed, based on Forest Plan Standards and Guidelines, to move existing resource conditions in the Upper Spring Creek Project Area toward meeting Forest Plan Goals and Objectives. Anticipate issues include: Wildlife and fuels hazards, MPB effects, prescribed fire, activity fuels reduction, vegetation and wildlife habitat diversity, and socioeconomic issues. The range of alternatives analyzed in the EIS is expected to be consistent with Sec. 104 of the HFRA.

Purpose and Need for Action

The purpose of the Upper Spring Creek Project is to:

• Move toward achieving desired land and resource conditions, as provided by the Forest Plan, as amended.

• Restore resource conditions to a healthy, resilient fire-adapted ecosystem.

• Reduce the threat to ecosystem components including forest resources, from the existing insect (mountain pine beetle) epidemic.

• Help protect local communities and resources from catastrophic wildlife.

This project is focused on implementing management actions that move toward achieving:

• Desired conditions and objectives embodied in Goals 2, 3, 7, and 10 of the Forest Plan (as amended).

• Goals and objectives applicable to Forest Plan Management Area (MA) 4.1—Limited Motorized Use and Forest Product Emphasis; MA 5.1—Resource Production Emphasis; and MA 5.4—Big Game Winter Range Emphasis, that lie within U.S.C., described in Chapter III of the Forest Plan (Phase II Amendment).

• Goals of the Healthy Forest Restoration Act (HFRA) of 2003 (HR 1904) and other National level initiatives and policy that provide procedural tools to hasten process focused on reducing the probability and occurrence of severe wildlife in the fire adapted ecosystems, especially near at risk communities (ARC) and in the wildland-urban interface (WUI).

Addressing the existence of insect or disease on public and adjacent private lands. Moreover, it is appropriate that proposed actions be designed in consideration of applicable fuels hazard reduction management recommendations and guidelines provided by the Pennington County Community Wildfire Protection Plan (CWPP) of 2007 and the Custer County CWPP of 2006.

Proposed Action

Proposed actions include the following:

• Restore natural fuel breaks to help reduce the potential for large-scale, intense wildfire spread. Treatment includes removing conifers from hardwood stands such as aspen and birch and by restoring meadows (est. 3,800 acres).

• Reduce the amount of fuel that currently exists and that created by vegetation treatment activities. Treatment could include lopping, chipping, crushing, piling and burning; creating fuel breaks along roads and adjacent to private property, particularly those properties with houses and subdivisions. Prescribed broadcast burning of up to 14,200 acres is also planned to not only reduce fuel levels, but also benefit big game and other wildlife resources.

• Thin and harvest approximately 23,500 acres of pine stands using a variety of treatments to reduce the overall density of pine trees and create a mosaic of structural stages across the landscape. Both commercial and non-commercial sized trees would be removed utilizing multiple contracts including stewardship, timber sale, and service contracts.

Responsible Official

Robert J. Thompson, District Ranger, Mystic Ranger District, Black Hills National Forest, 8221 South Highway 16, Rapid City, SD 57702.

Nature of Decision To Be Made

The decision to be made is whether or not to implement the proposed action or possible alternative at this time.

Scoping Process

Comments and input regarding the proposal will be received via direct mailing from the public, other groups and agencies during the initial public comment period in October and November 2007. If you would like to be more involved, a public meeting is scheduled for Thursday November 8, 2007 from 7 p.m. to 9 p.m. in the City Hall conference room in Hill City, South Dakota. Comments submitted based on this NOI will be most useful if received within 30 days from the date of this notice. Response to the draft EIS will be sought from the interested public beginning in February 2008.

Comment Requested

This NOI provides information that the agency will prepare an environmental impact statement in response to public comment and feedback during the October and November 2007 scoping period. Comments received will assist the planning team to identify key issues and opportunities used to refine the proposal or possible alternatives. Comments on the DEIS will be requested during the 45 day comment period following the Notice of Availability, expected to be published in the Federal Register in February 2008 (See discussion below).

Early Notice of Importance of Public Participation in Subsequent Environmental Review: The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, section 21)

Dated: October 17, 2007.
Craig Bobzien,
Forest Supervisor, Black Hills National Forest.

[FR Doc. 07-5273 Filed 10-24-07; 8:45 am]

BILLING CODE 3410-11-M